DEPARTMENT OF THE INTERIOR

Bureau of Land Management

[CO-700-00-0777-XQ-1784]

Southwest Resource Advisory Council Meeting

AGENCY: Bureau of Land Management, Interior.

ACTION: Notice; Southwest Resource Advisory Council Meeting.

SUMMARY: Notice is hereby given that the Southwest Resource Advisory Council (Southwest RAC) will meet in March, 2000 in Paonia, CO.

DATES: The meeting will be held on Thursday, March 9, 2000.

ADDRESSES: For additional information, contact Roger Alexander, Bureau of Land Management, Southwest Center, 2465 South Townsend Avenue, Montrose, CO 81401; phone 970-240-5335; TDD 970-240-5366; e-mail Roger_Alexander@co.blm.gov.

SUPPLEMENTARY INFORMATION: The March 9, 2000 meeting will be held at the Paonia Senior Citizens Center, 106 Third Street, Paonia CO. The meeting will begin at 9:00 a.m. and end no later than 4:30 p.m. The agenda will include updates on the North Fork Coal Leasing EIS, the Gunnison Gorge and Anasazi Heritage Center recreation fee demonstration projects, the proposed recreation fee for Yankee Boy Basin, Colorado's RACs' proposed recreation guidelines and the Anasazi Area of Critical Environmental Concern. A presentation on the Delta-Montrose Public Lands Partnership proposed Uncompahgre Plateau project is also scheduled. General public comment is scheduled for 9:15 a.m.

Summary minutes for Council meetings are maintained in the Southwest Center Office and on the World Wide Web at http://www.co.blm.gov/mdo/mdo_sw_rac.htm and are available for public inspection and reproduction within thirty (30) days following each meeting.

Dated: January 31, 2000.
Roger Alexander,
Public Affairs Specialist.

[FR Doc. 00-2685 Filed 2-4-00; 8:45 am]

BILLING CODE 4310-JB-P